LEGAL SERVICES CORPORATION

Sunshine Act Meeting: Board of Directors and Its Six Committees

AGENCY: Legal Services Corporation.

ACTION: Change Notice.

SUMMARY: On April 2, 2018, the Legal Services Corporation (LSC) published a notice in the Federal Register (83 FR 14060) titled “Board of Directors and its Six Committees will meet on April 8-10, 2018, Eastern Standard Time (EST)”. A correction to change the Audit Committee Open Session Agenda scheduled for Monday, April 9, 2018 by moving item #6 (Pursuant to Section VIII(A)(6) of the Committee Charter, review and discuss with LSC Management assessment regarding financial business processes) to the Close Session Agenda; all other items remain consecutively the same. This document changes the notice by revising the Audit Committee Open Session Agenda by moving item #6 to the Close Session of the Agenda.

CHANGES IN THE MEETING: Moving #6 of the Audit Committee Open Session Agenda to the Close Session Agenda.

—Item #6 of the Agenda: Pursuant Section VIII(A)(6) of the Committee Charter, review and discuss with LSC Management assessment regarding financial business processes

DATES: This change is effective April 2, 2018.

FOR FURTHER INFORMATION CONTACT: Katherine Ward, Executive Assistant to the Vice President for Legal Affairs and General Counsel, Legal Services Corporation, 3333 K Street NW, Washington, DC 20007; (202) 295-1500; kward@lsc.gov.

Dated: April 4, 2018.
Katherine Ward,
Executive Assistant to the Vice President for Legal Affairs and General Counsel.

[FR Doc. 2018-07162 Filed 4-4-18; 11:15 am]

BILLING CODE 7050-01-P